JUDICIAL CONFERENCE OF THE UNITED STATES

Meeting of the Judicial Conference Committee on Rules of Practice and Procedure

AGENCY: Judicial Conference of the United States Committee on Rules of Practice and Procedure.

ACTION: Notice of open meeting.

SUMMARY: The Committee on Rules of Practice and Procedure will hold a two-day meeting. The meeting will be open to public observation but not participation.

DATES: January 6-7, 2011. Time: 8:30 a.m. to 5 p.m.

ADDRESSES: James R. Browning, United States Courthouse, Courtroom 5, 95 Seventh Street, San Francisco, CA.

FOR FURTHER INFORMATION CONTACT: Peter G. McCabe, Secretary Rules Committee Support Office, Administrative Office of the United States Courts, Washington, DC 20544, telephone (202) 502-1820.

Dated: December 21, 2010.
Peter G. McCabe,
Rules Committee Support Office.

[FR Doc. 2010-32439 Filed 12-27-10; 8:45 am]

BILLING CODE 2210-55-M